DEPARTMENT OF HEALTH AND HUMAN SERVICES

Agency for Healthcare Research and Quality

Statement of Organization Functions, and Delegations of Authority

Part E, Chapter E (Agency for Healthcare Research and Quality), of the Statement of Organization, Functions, and Delegations of Authority for the Department of Health and Human Services (61 FR 15955-58, April 10, 1996, most recently amended at 73 FR 12737, March 10, 2008) is amended to reflect recent organizational changes, including renaming of the Office of Performance, Accountability, Resources, and Technology to the Office of Management Services to better reflect its functions and the creation of divisions within the office. The specific amendment is as follows:

Under Section E-10, Organization, delete I. Office of Performance, Accountability, Resources, and Technology (EQ) and replace with the following:

I. Office of Management Services (EQ)

Under Section E-20. Functions. Delete Office of Performance, Accountability, Resources, and Technology (EQ) and replace with Office of Management Services (EQ). Directs and coordinates the Agency's administrative services and operational activities. Specifically, the Office provides leadership, oversight, and executive support for human capital management; contracts, grants, and financial management; and administrative services including safety, security, property, space, and facilities management, as well as non-information technology acquisitions. (1) Office of the Director: Leads the design, implementation, and evaluation of management and operational programs that respond to the Agency's needs. Devises strategies to address Departmental, Office of Personnel Management, and Office of Management and Budget initiatives, including sustainability and the Agency's conference-approval process, and oversees implementation of Agency-wide efforts to address these initiatives. Conducts complex organizational and management analyses and develops major proposals and plans. (2) Division of Administrative Services: Provides oversight and implementation of major administrative programs including the Agency's ethics program, Continuity of Operations Plans, the Employee Transit Benefit Program, quality of worklife programs, and physical safety and security programs. Manages the Agency's real property and building relocation and renovation programs, as well as Federal Occupational Health activities. Oversees Public Health Service Commissioned Corps personnel activities and manages Homeland Security Presidential Directive 12 compliance. Provides administrative services including timekeeping, travel, conference and copy center management, mail, and supplies. (3) Division of Contracts Management: Manages all aspects of the Agency's acquisition program in accordance with Federal acquisition regulations policies, and initiatives. Oversees and implements the Agency's contract planning, solicitation, review, negotiation, award, post-award administration, payment, and contract closeout activities. Develops, implements, and maintains policies and procedures for the Agency's acquisition program. Provides guidance to the contracting officer representative community. Manages inter-agency agreements, the purchase card program, and acquisition workforce training and certification programs. (4) Division of Financial Management, Performance, and Evaluation: Provides guidance in all aspects of financial management, including Agency budget formulation and execution, and ensures integration of the budget and planning processes. Manages evaluation and measurement activities for the Agency including development and implementation of the Agency's annual evaluation plan. Establishes and maintains financial accounting and reporting systems and coordinates responses on budget and accounting matters with all levels of Agency management, Departmental staff, Congressional committees, and the private sector. Serves as the Agency's focal point for Government Performance and Results Act activities and Program Integrity activities and coordinates the Agency's efforts for Office of Management and Budget Circular A-123, Management's Responsibility for Internal Control. (5) Division of Grants Management: Provides leadership and oversight in grants management and grants management policy to the extramural research community and AHRQ extramural staff through expert guidance, grant analysis and negotiation, outreach, and related information dissemination in order to promote effective stewardship of AHRQ extramural funds in support of healthcare research. (6) Division of Human Capital and Resources Management: Provides guidance to the Agency regarding all aspects of personnel management including staff training, workforce planning and restructuring, and allocation and utilization of human capital resources. Serves as liaison to the Equal Employment Opportunity service provider and to the servicing personnel office to ensure the Agency's human capital needs, including recruitment, position classification, and compensation, are met and properly executed. Manages the Agency's human capital reporting function and competitive sourcing activities. Manages the Agency's awards and performance management program.

These changes are effective upon date of signature.

Dated: June 19, 2013.
Carolyn M. Clancy,
AHRQ Director.

[FR Doc. 2013-15289 Filed 6-27-13; 8:45 am]

BILLING CODE 4160-90-M